DEPARTMENT OF DEFENSE

Department of the Army

Army Science Board Closed Meeting Notice

AGENCY: Department of the Army, DoD.

ACTION: Notice; meeting time corrections.

SUMMARY: The meeting times for four Fiscal Year 2017 (FY17) ASB studies being presented on July 20, 2017, which published in the Federal Register on Thursday, June 22, 2017 (82 FR 28484) are changed to the following:

Capabilities To Operate in Megacities and Dense Urban Areas. This study is classified and will be presented in a closed meeting at 1115-1215.

Improving Transition of Laboratory Programs Into Warfighting Capabilities Through Experimentation. This study is not classified and will be presented during an open portion of the meeting at 1330-1430.

Multi-Domain Battle. This study is classified and will be presented in the closed meeting at 0845-0945.

The Future Character of Warfare and Required Capabilities. This study is classified and will be presented in a closed meeting at 1000-1100.

FOR FURTHER INFORMATION CONTACT: Army Science Board, Designated Federal Officer, 2530 Crystal Drive, Suite 7098, Arlington, VA 22202; MAJ Sean M. Madden, the committee's Designated Federal Officer (DFO), at (703)-545-8652 or email: sean.m.madden.mil@mail.mil, or Mr. Paul Woodward at (703)-695-8344 or email: paul.j.woodward2.civ@mail.mil.

SUPPLEMENTARY INFORMATION: None.

Brenda S. Bowen,
Army Federal Register Liaison Officer.

[FR Doc. 2017-14160 Filed 7-5-17; 8:45 am]

BILLING CODE 5001-03-P